DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 2, 2001.

Interested persons are invited to submit written comments regarding the subject matter of the investigations to the Director, Division of Trade Adjustment Assistance, at the address shown below, not later than March 2, 2001.

The petitions filed in this case are available for inspection at the Office of the Director, Division of Trade Adjustment Assistance, Employment and Training Administration, U.S. Department of Labor, Room C-5311, 200 Constitution Avenue, NW., Washington, DC 20210.

Signed at Washington, DC, this 29th day of January, 2001.
Edward A. Tomchick,
Director, Division of Trade Adjustment Assistance.

Appendix
[Petitions instituted on 01/29/2001]
TA-W | Subject firm (petitioners) | Location | Date of petition | Product(s)
38,579 | National Starch (IBM) | Meredosia, IL | 01/11/2001 | Mining Industry Equipment.
38,580 | Fox Distribution (Wkrs) | Laurel, MT | 01/11/2001 | Finger Jointed Stud Lumber.
38,581 | American Standard, Inc (GMP) | Piscataway, NJ | 01/.10/2001 | Sanitary Wares.
38,582 | Dalil Fashions (UNITE) | Edison, NJ | 01/08/2001 | Dresses.
38,583 | Vision Legwear (Co.) | Spruce Pine, NC | 01/12/2001 | Ladies' Tights, Sheer Hosiery.
38,584 | Millennium Plastic (UNITE) | El Paso, TX | 01/11/2001 | Plastic Automotive Parts.
38,585 | Portola Packaging (Wkrs) | New Castle, PA | 01/20/2001 | Plastic Caps (Closures) for Bottles.
38,586 | OBG Manufacturing (UFCW) | Liberty, KY | 01/12/2001 | Children's Apparel.
38,587 | VF Imagewwear (Co.) | Nashville, TN | 01/19/2001 | Work Clothing.
38,588 | ARESCO Incorporation (Wkrs) | Post Falls, ID | 01/10/2001 | Mining Industry Equipment.
38,589 | Collins and Aikman (USWA) | Canton, OH | 01/10/2001 | Car Mats.
38,590 | Bianca Sportswear (Wkrs) | Copiague, NY | 01/03/2001 | Ladies' Pants.
38,591 | Horix Manufacturing (USWA) | McKees Rocks, PA | 01/16/2001 | Rotary Filling Machines.
38,592 | Exide Technologies (Co.) | Farmers Branch, TX | 01/10/2001 | Lead Acid Batteries.
38,593 | Innovative Home Products (UAW) | Birmingham, MI | 01/11/2001 | Garage Doors—Steel and Aluminum.
38,594 | Regional Recycling (USWA) | Attalla, Al | 01/12/2001 | Processes Steel and Iron Scrap.
38,595 | Magnetic Data Technologie (Wkrs) | Eden Prairie, MN | 01/10/2001 | Tape Drives.
38,596 | Matsushita Battery Ind. (Wkrs) | Columbus, GA | 12/22/2000 | Lead-Acid Storage Batteries.
38,597 | Commonwealth Aluminum (USWA) | Lewisport, KY | 01/09/2001 | Coil Aluminum.
38,598 | NACCO Materials Handling (Wkrs) | Danville, IL | 01/08/2001 | Lift Trucks.
38,599 | Sherwood Harsco Corp. (Wkrs) | Wheatfield, NY | 01/04/2001 | Gas Control Valves.
38,600 | H.L. Miller and Son (Co.) | Dallas, TX | 01/18/2001 | Warehouse and Shipping—Ladies' Dresses.
38,601 | Arka Knitwear (Co.) | Ridgewood, NY | 01/12/2001 | Sweaters.
38,602 | Designs By Norvell (Wkrs) | Alexandria, TN | 01/16/2001 | Protective Clothing.
38,603 | Daniel Green Co (Wkrs) | Dolgeville, NY | 01/09/2001 | Slippers.
38,604 | Lawson Mardon USA (Wkrs) | Clifton, NJ | 01/08/2001 | Food Packaging Products.
38,605 | Komag, Inc. (Co.) | Eugene, OR | 01/15/2001 | Thin Film Media Disks.
38,606 | OMC P and A (Wkrs) | Beloit, WI | 01/10/2001 | Marine Products.
38,607 | Owens Corning (GMPPAW) | Newark, OH | 01/16/2001 | Fibrous Glass Insulation Products.
38,608 | Wundies Enterprises (Co.) | Wellsboro, PA | 01/16/2001 | Ladies' Intimate Apparel.
38,609 | Gates Rubber Co (Wkrs) | Charleston, MO | 01/10/2001 | Radiator Hoses.
38,610 | Kodak Polychrome Graphics (Wkrs) | Carlstadt, NJ | 01/14/2001 | Lithographic Printing Plates.
38,611 | Leach International (Co.) | Buena Park, CA | 01/16/2001 | Electromechanical Relays.
38,612 | Owens And Hurst Lumber (Co.) | Eureka, MT | 01/17/2001 | Softwood Lumber.
38,613 | Budge Industries, Inc (Wkrs) | Telford, PA | 01/19/2001 | Car Covers.
38,614 | Production Stamping (Co.) | Oxford, MI | 01/17/2001 | Stampings.
38,615 | Koppel Steel (USWA) | Koppel, PA | 01/17/2001 | Steel Bar and Pipe.
38,616 | Texprint (Co.) | Macon, GA | 01/19/2001 | Textile Printer/Dryer.
38,617 | Garan Manufacturing Corp (Wkrs) | Carthage, MO | 01/19/2001 | Children's Knit Tops.
38,618 | Belding Hausman (Wkrs) | Lincolnton, NC | 01/09/2001 | Fabrics.
38,619 | Schumacher Electric (Co.) | Rensselaer, IN | 01/15/2001 | Transformer Coils.
38,620 | TDK Electronics Corp (Co.) | Peachtree City, GA | 01/17/2001 | Recordable CD's.

[FR Doc. 01-4120 Filed 2-16-01; 8:45 am]

BILLING CODE 4510-30-M